NATIONAL FOUNDATION ON THE ARTS AND THE HUMANITIES

Institute of Museum and Library Services

Submission for OMB Review, Comment Request, Proposed Collection: Digital Inclusion Corps Pilot Project Evaluation

AGENCY: Institute of Museum and Library Services, National Foundation on the Arts and the Humanities.

ACTION: Submission for OMB Review, Comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed.

A copy of the proposed information collection request can be obtained by contacting the individual listed below in the FOR FURTHER INFORMATION CONTACT section of this notice.

DATES: Written comments must be submitted to the office listed in the ADDRESSES section below on or before July 27, 2017.

ADDRESSES: Comments should be sent to Office of Information and Regulatory Affairs, Attn.: OMB Desk Officer for Education, Office of Management and Budget, Room 10235, Washington, DC 20503, (202) 395-7316.

FOR FURTHER INFORMATION CONTACT: Robin Dale, Acting Deputy Director, Library Services, Institute of Museum and Library Services, 955 L'Enfant Plaza North SW., Suite 4000, Washington, DC 20024-2135. Ms. Dale can be reached by Telephone: 202-653-4650, Fax: 202-653-4603, or by email at rdale@imls.gov, or by teletype (TTY/TDD) at 202-653-4614.

SUPPLEMENTARY INFORMATION: The Institute of Museum and Library Services is the primary source of federal support for the Nation's 123,000 libraries and 35,000 museums. The Institute's mission is to inspire libraries and museums to advance innovation, learning, and civic engagement. The Institute works at the national level and in coordination with state and local organizations to sustain heritage, culture, and knowledge; enhance learning and innovation; and support professional development. IMLS is responsible for identifying national needs for and trends in museum, library, and information services; measuring and reporting on the impact and effectiveness of museum, library and information services throughout the United States, including programs conducted with funds made available by IMLS; identifying, and disseminating information on the best practices of such programs; and developing plans to improve museum, library, and information services of the United States and strengthen national, State, local, regional, and international communications and cooperative networks (20 U.S.C. 72, 20 U.S.C. 9108).

The purpose of this Notice is to solicit comments concerning the evaluation instrument for the Digital Inclusion Corps Pilot Project, a project under a cooperative agreement between IMLS and The PAST Foundation.

OMB is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automated electronic, mechanical, or other technological collection techniques or other forms of information technology, e.g. permitting electronic submissions of responses.

Current Actions: This notice proposes clearance of the Digital Inclusion Corps Pilot Project Evaluation. The 60-day notice for the Digital Inclusion Corps Pilot Project Evaluation was published in the Federal Register on February 13, 2017 (FR vol. 82, No. 2, pgs. 887-888). No comments were received under this notice.

Agency: Institute of Museum and Library Services.

Agency: Institute of Museum and Library Services.

Title: Digital Inclusion Corps Pilot Project Evaluation.

OMB Number: TBD.

Agency Number: 3137.

Frequency: One time.

Affected Public: State library agencies, libraries, museums, museum organizations, community support organizations.

Number of Respondents: 30.

Estimated Time per Respondent: .5-1 hours.

Total Burden Hours: 17.5.

Total Annualized Cost to Respondents: $ 508.72.

Total Annualized Capital/Startup Costs: 0.

Total Annualized Cost to Federal Government: $32,798.40.

Dated: June 27, 2017.
Kim A. Miller,
Grants Management Specialist, Office of the Chief Financial Officer.

[FR Doc. 2017-13864 Filed 6-30-17; 8:45 am]

BILLING CODE 7036-01-P